DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part.

SUMMARY: The Department of Commerce has received requests to conduct administrative reviews of various antidumping and countervailing duty orders and findings with April anniversary dates. In accordance with the Department's regulations, we are initiating those administrative reviews. The Department of Commerce also received a request to revoke one antidumping duty order in part.

EFFECTIVE DATE: May 21, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with April anniversary dates. The Department also received a timely request to revoke in part the antidumping duty order on Certain Steel Concrete Reinforcing Bars from Turkey.

Initiation of Reviews

In accordance with section 19 CFR 351.221(c)(1)(i), we are initiating administrative reviews of the following antidumping and countervailing duty orders and findings. We intend to issue the final results of these reviews not later than April 30, 2004.

| Period to be reviewed
Antidumping Duty Proceedings
The People's Republic of China: Automotive Replacement Glass Windshields ¹, A-570-867 | 9/19/01-3/31/03
Changchun Pilkington Safety Glass Company, Ltd.
Dongguan Kongwan Automobile Glass, Ltd.
Fuyao Glass Industry Group company, Ltd.
Guilin Pilkington Safety Glass Company, Ltd.
Peaceful City, Ltd.
Shanghai Yaohua Pilkington Autoglass Company, Ltd.
Shenzen CSG Automotive Glass Co., Ltd. (formerly
Shenzhen Benxum AutoGlass Co., Ltd.)
TCG International, Inc.
Wuhan Yaohua Pilkington Safety Glass Company, Ltd.
Xinyi Automotive Glass (Shenzhen) Co., Ltd.
The People's Republic of China: Brake Rotors ², A-570-846 | 4/1/02-3/31/03
China National Machinery and Equipment Import & Export (Xianjiang) Corporation, and manufactured by any company other than Zibo Botai Manufacturing Co., Ltd.
China National Automotive Industry Import & Export Corporation, and manufactured by any company other than Laizhou CAPCO Machinery Co., Ltd.
Laizhou CAPCO Machinery Co., Ltd., and manufactured by any company other than Laizhou CAPCO Machinery Co., Ltd.
Laizhou Luyuan Automobile Fittings Co., and manufactured by any company other than Laizhou Luyuan Automobile Fittings Co., or Shenyang Honbase Machinery Co., Ltd.
Shenyang Honbase Machinery Co., Ltd., and manufactured by any company other than Laizhou Luyuan Automobile Fittings Co. or Shenyang Honbase Machinery Co., Ltd.,
China National Industrial Machinery Import & Export Corporation
Laizhou Auto Brake Equipment Co., Ltd.
Qingdao Gren (Group) Co.
Yantai Winhere Auto-Part Manufacturing Co., Ltd.
Longkou Haimeng Machinery Co., Ltd.
Zibo Luzhou Automobile Parts Co., Ltd.
Laizhou Hongda Auto Replacement Parts Co., Ltd.
Hongfa Machinery (Dalian) Co., Ltd.
Qingdao Meita Automotive Industry Co., Ltd.
Shangdong Huanri (Group) General Company
Longkou TLC Machinery Co., Ltd.
Zibo Golden Harvest Machinery Limited Company
Shanxi Fengkun Metalurgical Limited Company
Xianghe Xumingyuan Auto Parts Co., Ltd.
Xiangfen Hengtai Brake Systems Co., Ltd.
Turkey: Certain Steel Concrete Reinforcing Bars, A-489-807 4/1/02-3/31/03
Cebitas Demir Celik Endustrisi A.S.
Cemtas Celik Makina Sanayi ve Ticaret A.S.
Colakoglu Metalurji A.S.
Demirsan Haddecilik Sanayi ve Ticaret A.S.
Diler Demir Celik Endustri ve Ticaret A.S.
Ege Celik Endustrisi Sanayi ve Ticaret A.S.
Ege Metal Demir Celik Sanayi ve Ticaret A.S.
Ekinciler Holding A.S. and Ekinciler Demir Celik San A.S.
Habas Sinai ve Tibbi Gazlar Istihsal Endustrisi A.S.
Icdas Celik Enerji Tersane ve Ulasim Sanayi, A.S.
Iskenderun Iron & Steel Works Co.
Izmir Demir Celik Sanayi A.S.
Kaptan Demir Celik Endustrisi ve Ticaret A.S.
Kardemir—Karabuk Demir Celik Sanayi ve Ticaret A.S.
Kroman Celik Sanayi A.S.
Kurum Demir Sanayi ve Ticaret Metalenerji A.S.
Metas Izmir Metalurji Fabrikasi Turk A.S.
Nurmet Celik Sanayi ve Ticaret A.S.
Nursan Celik Sanayi ve Haddecilik A.S.
Sivas Demir Celik Isletmeleri A.S.
Tosyali Demir Celik Sanayi A.S.
Ucel Haddecilik Sanayi ve Ticaret A.S.
Yazici Demir Celik Sanayi ve Ticaret A.S.
Countervailing Duty Proceedings: None.
Suspension Agreements: None.
¹ If one of the named companies does not qualify for a separate rate, all other exporters of automotive replacement glass windshields from the People's Republic of China who have not qualified for a separate rate are deemed to be covered by this review as part of the single PRC entity of which the named exporters are a part.
² If one of the named companies does not qualify for a separate rate, all other exporters of brake rotors from the People's Republic of China who have not qualified for a separate rate are deemed to be covered by this review as part of the single PRC entity of which the named exporters are a part.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: May 15, 2003.
Holly A. Kuga,
Acting Deputy Assistant Secretary, Group II for Import Administration.

[FR Doc. 03-12769 Filed 5-20-03; 8:45 am]

BILLING CODE 3510-DS-P